SMALL BUSINESS ADMINISTRATION

13 CFR Ch. I

Semiannual Regulatory Agenda

AGENCY: U.S. Small Business Administration (SBA).

ACTION: Semiannual Regulatory Agenda.

SUMMARY: This Regulatory Agenda is a semiannual summary of all current and projected rulemakings, existing regulations, and completed actions of the Small Business Administration (SBA). This agenda provides the public with information about SBA's regulatory activity. SBA expects that this information will enable the public to be more aware of, and effectively participate in, the SBA's regulatory activity. SBA invites the public to submit comments on any aspect of this Agenda.

FOR FURTHER INFORMATION CONTACT:

General

Please direct general comments or inquiries to Martin “Sparky” Conrey, Assistant General Counsel for Legislation and Appropriations, U.S. Small Business Administration, 409 Third Street SW., Washington, DC 20416, (202) 619-0638, martin.conrey@sba.gov.

Specific

Please direct specific comments and inquiries on individual regulatory activities identified in this agenda to the individual listed in the summary of the regulation as the point of contact for that regulation.

SUPPLEMENTARY INFORMATION: SBA provides this notice under the requirements of the Regulatory Flexibility Act, 5 U.S.C. sections 601 to 612 and Executive Order 12866, “Regulatory Planning and Review,” which require each agency to publish a semiannual agenda of regulations. The regulatory agenda is a summary of all current and projected rulemakings, as well as actions completed since the publication of the last regulatory agenda for the agency. SBA's last semiannual regulatory agenda was published on December 20, 2010 at 75 FR 79864. The semiannual agenda of the SBA conforms to the Unified Agenda format developed by the Regulatory Information Service Center.

Beginning in fall 2007, the Internet became the basic means for disseminating the Unified Agenda. The complete Unified Agenda will be available online at http://www.reginfo.gov in a format that greatly enhances a user's ability to obtain information about the rules in the agency's Agenda.

The Regulatory Flexibility Act requires federal agencies to publish their regulatory flexibility agendas in the Federal Register. Therefore, SBA's printed agenda entries include regulatory actions that are in the SBA's regulatory flexibility agenda. A regulatory flexibility agenda shall contain, among other things, “a brief description of the subject area of any rule, which is likely to have a significant economic impact on a substantial number of small entities.” Printing of these entries is limited to fields that contain information required by the Regulatory Flexibility Act's Agenda requirements. Additional information on these entries is available in the Unified Agenda published on the Internet.

Dated: March 2, 2011.
Karen G. Mills,
Administrator.

Small Business Administration—Proposed Rule Stage
Sequence No. | Title | Regulation Identifier No.
289 | Small Business Technology Transfer (STTR) Policy Directive | 3245-AF45
290 | Small Business Innovation Research Program Policy Directive | 3245-AF84
291 | SBA Express Loan Program; Export Express Program | 3245-AF85
292 | Implementation of Military Reservist and Veteran Small Business Reauthorization and Opportunity Act of 2008 | 3245-AF87
293 | Implementation of Small Business Disaster Response and Loan Improvement Act of 2008: Expedited Disaster Assistance Program | 3245-AF88
294 | Implementation of Small Business Disaster Response and Loan Improvement Act of 2008: Private Loan Disaster Program | 3245-AF99
295 | Interest Rate—Resetting Fixed Interest Rate | 3245-AG03
296 | 504 Regulatory Enhancements | 3245-AG04
297 | Small Business Size Standards for Loan, Investment, and Surety Programs | 3245-AG05
298 | Small Business Size Standards: Transportation and Warehousing Industries | 3245-AG08
299 | Statement of Personal History (Form 912) Modification | 3245-AG11
300 | Small Business Jobs Act: Small Business Size Standards; Alternative Size Standard for 7(a) and 504 Business Loan Programs | 3245-AG16
301 | Small Business Jobs Act: Multiple Award Contracts and Small Business Set-Asides | 3245-AG20
302 | Small Business Jobs Act: Bundling and Contract Consolidation | 3245-AG21
303 | Small Business Jobs Act: Subcontract Integrity | 3245-AG22
304 | Small Business Jobs Act: Small Business Size and Status Integrity | 3245-AG23
305 | Small Business Jobs Act: Small Business Mentor-Protégé Programs | 3245-AG24
306 | Small Business Size Standards for Utilities Industries | 3245-AG25
307 | Small Business Size Standards for Information Industries | 3245-AG26
308 | Small Business Size Standards for Administrative and Support, Waste Management and Remediation Services Industries | 3245-AG27
309 | Small Business Size Standards: Real Estate, Rental and Leasing Industries | 3245-AG28
310 | Small Business Size Standards: Educational Services Industries | 3245-AG29
311 | Small Business Size Standards: Health Care and Social Assistance Services Industries | 3245-AG30
312 | Small Business Size Standards: Application of Nonmanufacturer Rule to Processors and other Producers | 3245-AG31

Small Business Administration—Final Rule Stage
Sequence No. | Title | Regulation Identifier No.
313 | Lender Oversight Program | 3245-AE14
314 | Small Business Size Standards: Professional, Scientific, and Technical Services | 3245-AG07

Small Business Administration—Long-Term Actions
Sequence No. | Title | Regulation Identifier No.
315 | Small Business Development Centers (SBDC) Program Revisions | 3245-AE05

Small Business Administration—Completed Actions
Sequence No. | Title | Regulation Identifier No.
316 | Small Business Size Regulations; (8)a Business Development/Small Disadvantaged Business Status Determination | 3245-AF53
317 | Small Business, Small Disadvantaged Business, HUBZone, and Service-Disabled Veteran-Owned Protest and Appeal Regulations | 3245-AF65

SMALL BUSINESS ADMINISTRATION (SBA)

Proposed Rule Stage

289. Small Business Technology Transfer (STTR) Policy Directive

Legal Authority: 15 U.S.C. 638

Abstract: SBA plans on updating the STTR Policy Directive to address and clarify certain relevant executive and statutory requirements. SBA also plans on making changes to the Directive to allow for improved data collection and reporting from participating agencies; and revising the definitions of some terms.

Timetable:

Action | Date | FR Cite
NPRM | 08/00/11

Regulatory Flexibility Analysis Required: Yes.

Agency Contact: Edsel M. Brown Jr., Assistant Director, Office of Innovation, Small Business Administration, 409 Third Street, SW, Washington, DC 20416, Phone: 202 205-6450, E-mail: edsel.brown@sba.gov.

RIN: 3245-AF45

290. Small Business Innovation Research Program Policy Directive

Legal Authority: 15 U.S.C. 638

Abstract: SBA plans to update the SBIR Policy Directive to address and clarify certain relevant executive and statutory requirements. SBA also plans on making changes to the Directive to allow for improved data collection and reporting from participating agencies; and revising the definitions of some terms.

Timetable:

Action | Date | FR Cite
NPRM | 09/00/11

Regulatory Flexibility Analysis Required: Yes.

Agency Contact: Edsel M. Brown Jr., Assistant Director, Office of Innovation, Small Business Administration, 409 Third Street, SW, Washington, DC 20416, Phone: 202 205-6450, E-mail: edsel.brown@sba.gov.

RIN: 3245-AF84

291. SBA Express Loan Program; Export Express Program

Legal Authority: 15 U.S.C. 636(a)(31) and (35)

Abstract: SBA plans to issue regulations for the SBA Express loan program codified in section 7(a)(31) of the Small Business Act. The SBA Express loan program reduces the number of Government mandated forms and procedures, streamlines the processing and reduces the cost of smaller, less complex SBA loans. Particular features of the SBA Express loan program include: (1) SBA Express loans carry a maximum SBA guaranty of 50 percent; (2) a response to an SBA Express loan application will be given within 36 hours; (3) lenders and borrowers can negotiate the interest rate, which may not exceed SBA maximums; and (4) qualified lenders may be granted authorization to make eligibility determinations. SBA also plans to issue regulations for the Export Express Program codified at 7(a)(35) of the Small Business Act. The Export Express Program, made permanent by the Small Business Jobs Act, makes guaranteed financing available for export development activities.

Timetable:

Action | Date | FR Cite
NPRM | 01/00/12

Regulatory Flexibility Analysis Required: Yes.

Agency Contact: Grady Hedgespeth, Director, Office of Financial Assistance, Small Business Administration, 409 Third Street, SW., Washington, DC 20416, Phone: 202 205-7562, Fax: 202 481-0248, E-mail: grady.hedgespeth@sba.gov.

RIN: 3245-AF85

292. Implementation of Military Reservist and Veteran Small Business Reauthorization and Opportunity Act of 2008

Legal Authority: 15 U.S.C. 632(q); 15 U.S.C. 636(j)

Abstract: SBA plans to issue regulations to implement section 205 of the Military Reservist and Veteran Small Business Reauthorization and Opportunity Act. This Act provides that any time limitation on any qualification, certification, or period of participation imposed under the Small Business Act on any program that is available to small business concerns shall be extended for a small business concern that is owned and controlled by a veteran who was called or ordered to active duty or a service-disabled veteran who became such a veteran due to an injury or illness incurred or aggravated in the active military duty. These regulations will provide guidance on tolling of time limitations for veteran-owned small businesses.

Timetable:

Action | Date | FR Cite
NPRM | 08/00/11

Regulatory Flexibility Analysis Required: Yes.

Agency Contact: Dean R. Koppel, Assistant Director, Office of Policy and Research, Small Business Administration, 409 Third Street, SW, Washington, DC 20416, Phone: 202 205-7322, Fax: 202 481-1540, E-mail: dean.koppel@sba.gov.

RIN: 3245-AF87

293. Implementation of Small Business Disaster Response and Loan Improvement Act of 2008: Expedited Disaster Assistance Program

Legal Authority: 15 U.S.C. 636(j)

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 01/00/12

Regulatory Flexibility Analysis Required: Yes.

Agency Contact: Grady Hedgespeth, Director, Office of Financial Assistance, Small Business Administration, 409 Third Street SW., Washington, DC 20416, Phone: 202 205-7562, Fax: 202 481-0248, E-mail: grady.hedgespeth@sba.gov.

RIN: 3245-AF88

294. Implementation of Small Business Disaster Response and Loan Improvement Act of 2008: Private Loan Disaster Program

Legal Authority: 15 U.S.C. 636

Abstract: This proposed rule would establish and implement a private disaster loan program under which SBA will guarantee loans made by qualified lenders to eligible small businesses and homeowners located in a catastrophic disaster area. Private disaster loans made under this programs will have the same terms and conditions as SBA's direct disaster loans. In addition, SBA will guarantee timely payment of principal and interest to the lender. SBA may guarantee up to 85 percent of any loan under this program and the maximum loan amount is $2 million.

Timetable:

Action | Date | FR Cite
NPRM | 01/00/12

Regulatory Flexibility Analysis Required: Yes.

Agency Contact: Grady Hedgespeth, Director, Office of Financial Assistance, Small Business Administration, 409 Third Street SW., Washington, DC 20416, Phone: 202 205-7562, Fax: 202 481-0248, E-mail: grady.hedgespeth@sba.gov.

RIN: 3245-AF99

295. Interest Rate—Resetting Fixed Interest Rate

Legal Authority: 15 U.S.C. 634

Abstract: SBA currently offers either a fixed or variable interest rate for 7(a) loans. In addition to these rates, the Agency is working to develop a shorter term fixed interest rate with the ability to be re-set at periodic intervals. This type of rate is currently available in the commercial market place and will help provide additional options for small business borrowers. By authorizing this option, SBA is recognizing a need to allow lenders to utilize market opportunities.

Timetable:

Action | Date | FR Cite
NPRM | 01/00/12

Regulatory Flexibility Analysis Required: Yes.

Agency Contact: Grady Hedgespeth, Director, Office of Financial Assistance, Small Business Administration, 409 Third Street SW., Washington, DC 20416, Phone: 202 205-7562, Fax: 202 481-0248, E-mail: grady.hedgespeth@sba.gov.

RIN: 3245-AG03

296. 504 Regulatory Enhancements

Legal Authority: 15 U.S.C. 695 et seq.

Abstract: SBA proposes to revise the regulations for the Agency's 504 Certified Development Company (CDC) Loan Program in order to (1) simplify processes and reduce the regulatory burdens on program participants while maintaining appropriate controls to mitigate risk; (2) increase opportunities for other nonprofit economic development entities to participate in the program either as independent CDCs or affiliates of CDCs, especially in communities not currently served; (3) expand the area of operations for CDCs from statewide to regional; (4) hold CDC Board of Directors more accountable for the CDCs economic development, financial strength, executive compensation and portfolio performance; (5) clarify current regulations; and (6) update the regulations with statutory requirements.

Timetable:

Action | Date | FR Cite
NPRM | 01/00/12

Regulatory Flexibility Analysis Required: Yes.

Agency Contact: Andrew B. McConnell Jr., Chief, 504 Loan Program, Office of Financial Assistance, Small Business Administration, 409 Third Street SW., Washington, DC 20416, Phone: 202 205-7238, E-mail: andrew.mcconnell@sba.gov.

RIN: 3245-AG04

297. Small Business Size Standards for Loan, Investment, and Surety Programs

Legal Authority: 15 U.S.C. 632, 634(b)(6), 636(b), 637, 644, 662(5)

Abstract: SBA currently sets different size standards for participation in its financial assistance programs. 7(a) borrowers use the standards set out for procurement programs or a temporary alternate standard; 504 borrowers may use the 7(a) standards or an alternate standard; SBIC investment may be made to small businesses that qualify through another standard; and Surety Bond program participants must meet still different requirements. As part of an overall Agency program, SBA will review financial program eligibility regulations in order to update size eligibility requirements among these programs.

Timetable:

Action | Date | FR Cite
NPRM | 08/00/11

Regulatory Flexibility Analysis Required: Yes.

Agency Contact: Grady Hedgespeth, Director, Office of Financial Assistance, Small Business Administration, 409 Third Street SW., Washington, DC 20416, Phone: 202 205-7562, Fax: 202 481-0248, E-mail: grady.hedgespeth@sba.gov.

RIN: 3245-AG05

298. Small Business Size Standards: Transportation and Warehousing Industries

Legal Authority: 15 U.S.C. 632(a)

Abstract: The U.S. Small Business Administration (SBA) proposes to modify small business size standards for industries in the North American Industry Classification System (NAICS) Sector 48-49, Transportation and Warehousing Industries. As part of its ongoing initiative to review all size standards, SBA will evaluate each industry in Sector 48-49 to determine whether the existing size standards should be retained or revised. This is one of a series of proposed rules that will examine industries grouped by an NAICS Sector. SBA has applied its “Size Standards Methodology,” which is available on its Web site at http://www.sba.gov/size, to this proposed rule.

Timetable:

Action | Date | FR Cite
NPRM | 09/00/11

Regulatory Flexibility Analysis Required: Yes.

Agency Contact: Dr. Khem Raj Sharma, Chief, Office of Size Standards, Small Business Administration, 409 Third Street SW, Washington, DC 20416, Phone: 202 205-7189, Fax: 202 205-6390, E-mail: khem.sharma@sba.gov.

RIN: 3245-AG08

299. Statement of Personal History (Form 912) Modification

Legal Authority: 15 U.S.C. 634

Abstract: Form 912, Statement of Personal History, is required of certain responsible parties that have an interest in an SBA loan. Contained on this form among other information are various questions concerning past arrest records and or convictions. SBA will modify and clarify regulations concerning who needs to complete this form in an effort to simplify and accelerate the loan approval process.

Timetable:

Action | Date | FR Cite
NPRM | 01/00/12

Regulatory Flexibility Analysis Required: Yes.

Agency Contact: Grady Hedgespeth, Director, Office of Financial Assistance, Small Business Administration, 409 Third Street SW., Washington, DC 20416, Phone: 202 205-7562, Fax: 202 481-0248, E-mail: grady.hedgespeth@sba.gov.

RIN: 3245-AG11

300. Small Business Jobs Act: Small Business Size Standards; Alternative Size Standard for 7(A) and 504 Business Loan Programs

Legal Authority: Pub. L. 111-240, sec 1116

Abstract: SBA will amend its size eligibility criteria for Business Loans and for development company loans under title V of the Small Business Investment Act (504). For the SBA 7(a) Business Loan Program, the amendments will provide an alternative size standard for loan applicants that do not meet the small business size standards for their industries. For the 504 Program, the amendments will increase the current alternative standard for applicants for 504 loans. The Small Business Jobs Act of 2010 (Jobs Act) established alternative size standards that apply to both of these programs until the SBA's Administrator establishes other alternative size standards. This interim final rule will be effective when published because the alternative size standards that the Jobs Act established were effective September 27, 2010, the date of its enactment. These alternative size standards do not affect other Federal government programs, including Federal procurement.

Timetable:

Action | Date | FR Cite
NPRM | 10/00/11

Regulatory Flexibility Analysis Required: Yes.

Agency Contact: Dr. Khem Raj Sharma, Chief, Office of Size Standards, Small Business Administration, 409 Third Street SW, Washington, DC 20416, Phone: 202 205-7189, Fax: 202 205-6390, E-mail: khem.sharma@sba.gov.

RIN: 3245-AG16

301. Small Business Jobs Act: Multiple Award Contracts and Small Business Set-Asides

Legal Authority: Pub. L. 111-240, sec 1311, 1331

Abstract: The U.S. Small Business Administration (SBA) is proposing regulations that will establish guidance under which Federal agencies may set aside part of a multiple award contract for small business concerns, set aside orders placed against multiple award contracts for small business concerns and reserve one or more awards for small business concerns under full and open competition for a multiple award contract. These regulations will apply to small businesses, including those small businesses eligible for SBA's socio-economic programs.

Timetable:

Action | Date | FR Cite
NPRM | 10/00/11

Regulatory Flexibility Analysis Required: Yes.

Agency Contact: Dean R. Koppel, Assistant Director, Office of Policy and Research, Small Business Administration, 409 Third Street SW, Washington, DC 20416, Phone: 202 205-7322, Fax: 202 481-1540, E-mail: dean.koppel@sba.gov.

RIN: 3245-AG20

302. Small Business Jobs Act: Bundling and Contract Consolidation

Legal Authority: Pub. L. 111-240, sec 1312, 1313

Abstract: The U.S. Small Business Administration is proposing regulations that will set forth a government-wide policy on bundling, which will address teams and joint ventures of small businesses and the requirement that each federal agency must publish on its website the rationale for any bundled contract. In addition, the proposed regulations will address contract consolidation and the limitations on the use of such consolidation in Federal procurement to include ensuring that the head of a Federal agency may not carry out a consolidated contract over $2 million unless the Senior Procurement Executive or Chief Acquisition Officer ensures that market research has been conducted and determines that the consolidation is necessary and justified. Further, the proposed regulations will address two new pilot programs: the three year pilot program called the “Electronic Procurement Center Representative (ePCR) Program” and the Small Business Teaming Pilot Program for teaming and joint ventures involving small businesses.

Timetable:

Action | Date | FR Cite
NPRM | 08/00/11

Regulatory Flexibility Analysis Required: Yes.

Agency Contact: Dean R. Koppel, Assistant Director, Office of Policy and Research, Small Business Administration, 409 Third Street SW, Washington, DC 20416, Phone: 202 205-7322, Fax: 202 481-1540, E-mail: dean.koppel@sba.gov.

RIN: 3245-AG21

303. Small Business Jobs Act: Subcontract Integrity

Legal Authority: Pub. L. 111-240, secs 1321 and 1322, 1334

Abstract: The U.S. Small Business Administration is proposing regulations that address subcontracting compliance and the interrelationship between contracting offices, small business offices and program offices relating to oversight and review activities. The proposed regulation will also address the statutory requirement that a large business prime contractor must represent that it will make good faith efforts to award subcontracts to small businesses at the same percentage as indicated in the subcontracting plan submitted as part of its proposal for a contract and that if the percentage is not met, the large business prime contractor must provide a written justification and explanation to the contracting officer. Finally, the proposed regulation may also address the statutory requirement that a prime contractor must notify the contracting officer in writing if it has paid a reduced price to a subcontractor for goods and services or if the payment to the subcontractor is more than 90 days past due.

Timetable:

Action | Date | FR Cite
NPRM | 09/00/11

Regulatory Flexibility Analysis Required: Yes.

Agency Contact: Dean R. Koppel, Assistant Director, Office of Policy and Research, Small Business Administration, 409 Third Street SW, Washington, DC 20416, Phone: 202 205-7322, Fax: 202 481-1540, E-mail: dean.koppel@sba.gov.

RIN: 3245-AG22

304. Small Business Jobs Act: Small Business Size and Status Integrity

Legal Authority: Pub. L. 111-240, sec 1341 and 1343

Abstract: The U.S. Small Business Administration is proposing regulations that will address the intentional misrepresentations of small business status as a “presumption of loss against the Government.” In addition, the proposed rule will address the statutory requirement that no business may continue to certify itself as small on the Online Representation and Certifications Application (ORCA) without first providing an annual certification.

Timetable:

Action | Date | FR Cite
NPRM | 10/00/11 |

Regulatory Flexibility Analysis Required: Yes.

Agency Contact: Dean R. Koppel, Assistant Director, Office of Policy and Research, Small Business Administration, 409 Third Street SW, Washington, DC 20416, Phone: 202 205-7322, Fax: 202 481-1540, E-mail: dean.koppel@sba.gov.

RIN: 3245-AG23

305. Small Business Jobs Act: Small Business Mentor-Protégé Programs

Legal Authority: Pub. L. 111-240, sec 1347

Abstract: The U.S. Small Business Administration is proposing regulations to establish mentor-protégé programs for the Service Disabled Veteran-Owned, HUBZone, and Women-Owned Small Business Programs. These mentor-protégé programs will be comparable to the 8(a) Business Development mentor-protégé program set forth in 13 CFR part 124.

Timetable:

Action | Date | FR Cite
NPRM | 08/00/11 |

Regulatory Flexibility Analysis Required: Yes.

Agency Contact: Dean R. Koppel, Assistant Director, Office of Policy and Research, Small Business Administration, 409 Third Street SW, Washington, DC 20416, Phone: 202 205-7322, Fax: 202 481-1540, E-mail: dean.koppel@sba.gov.

RIN: 3245-AG24

306. • Small Business Size Standards for Utilities Industries

Legal Authority: 15 U.S.C. 632(a)

Abstract: SBA is conducting a comprehensive review of all small business size standards to determine whether the existing size standards should be retained or revised. As part of this effort, SBA has evaluated each industry NAICS Sector 22, Utilities Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 09/00/11 |

Regulatory Flexibility Analysis Required: Yes.

Agency Contact: Dr. Khem Raj Sharma, Chief, Office of Size Standards, Small Business Administration, 409 Third Street SW, Washington, DC 20416, Phone: 202 205-7189, Fax: 202 205-6390, E-mail: khem.sharma@sba.gov.

RIN: 3245-AG25

307. • Small Business Size Standards for Information Industries

Legal Authority: 15 U.S.C. 632(a)

Abstract: SBA is conducting a comprehensive review of all small business size standards to determine whether the existing size standards should be retained or revised. As part of this effort, SBA has evaluated each industry NAICS Sector 51, Information Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 10/00/11 |

Regulatory Flexibility Analysis Required: Yes.

Agency Contact: Dr. Khem Raj Sharma, Chief, Office of Size Standards, Small Business Administration, 409 Third Street SW, Washington, DC 20416, Phone: 202 205-7189, Fax: 202 205-6390, E-mail: khem.sharma@sba.gov.

RIN: 3245-AG26

308. • Small Business Size Standards for Administrative and Support, Waste Management and Remediation Services Industries

Legal Authority: 15 U.S.C. 632(a)

Abstract: SBA is conducting a comprehensive review of all small business size standards to determine whether the existing size standards should be retained or revised. As part of this effort, SBA has evaluated each industry NAICS Sector 56, Administrative and Support, Waste Management and Remediation Services Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 10/00/11 |

Regulatory Flexibility Analysis Required: Yes.

Agency Contact: Dr. Khem Raj Sharma, Chief, Office of Size Standards, Small Business Administration, 409 Third Street SW, Washington, DC 20416, Phone: 202 205-7189, Fax: 202 205-6390, E-mail: khem.sharma@sba.gov.

RIN: 3245-AG27

309. • Small Business Size Standards: Real Estate, Rental and Leasing Industries

Legal Authority: 15 U.S.C. 632(a)

Abstract: SBA is conducting a comprehensive review of all small business size standards to determine whether the existing size standards should be retained or revised. As part of this effort, SBA has evaluated each industry NAICS Sector 53, Real Estate, Rental and Leasing Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 11/00/11 |

Regulatory Flexibility Analysis Required: Yes.

Agency Contact: Dr. Khem Raj Sharma, Chief, Office of Size Standards, Small Business Administration, 409 Third Street, SW, Washington, DC 20416

Phone: 202 205-7189, Fax: 202 205-6390, E-mail: khem.sharma@sba.gov.

RIN: 3245-AG28

310. • Small Business Size Standards: Educational Services Industries

Legal Authority: 15 U.S.C. 632(a)

Abstract: SBA is conducting a comprehensive review of all small business size standards to determine whether the existing size standards should be retained or revised. As part of this effort, SBA has evaluated each industry NAICS Sector 61, Educational Services Industries, and revised size standards for certain industries in the sector. This is one of a series of proposed rules that will examine industries grouped by an NAICS Sector. SBA has applied its “Size Standards Methodology,” which is available on its Web site at http://www.sba.gov/size, to this proposed rule.

Timetable:

Action | Date | FR Cite
NPRM | 11/00/11 |

Regulatory Flexibility Analysis Required: Yes.

Agency Contact: Dr. Khem Raj Sharma, Chief, Office of Size Standards, Small Business Administration, 409 Third Street, SW, Washington, DC 20416, Phone: 202 205-7189, Fax: 202 205-6390, E-mail: khem.sharma@sba.gov.

RIN: 3245-AG29

311. • Small Business Size Standards: Health Care and Social Assistance Services Industries

Legal Authority: 15 U.S.C. 632(a)

Abstract: SBA is conducting a comprehensive review of all small business size standards to determine whether the existing size standards should be retained or revised. As part of this effort, SBA has evaluated each industry NAICS Sector 62, Health Care and Social Assistance Services Industries, and revised size standards for certain industries in the sector. This is one of a series of proposed rules that will examine industries grouped by an NAICS Sector. SBA has applied its “Size Standards Methodology,” which is available on its Web site at http://www.sba.gov/size, to this purposed rule.

Timetable:

Action | Date | FR Cite
NPRM | 10/00/11 |

Regulatory Flexibility Analysis Required: Yes.

Agency Contact: Dr. Khem Raj Sharma, Chief, Office of Size Standards, Small Business Administration, 409 Third Street, SW, Washington, DC 20416, Phone: 202 205-7189, Fax: 202 205-6390, E-mail: khem.sharma@sba.gov.

RIN: 3245-AG30

312. • Small Business Size Standards: Application of Nonmanufacturer Rule to Processors and Other Producers

Legal Authority: 15 U.S.C. 632(a)

Abstract: SBA will clarify that contracting officers may not categorize a Federal government procurement using a North American Industry Classification System (NAICS) code that designates a public entity (NAICS Sector 92) when they will award or anticipate awarding the contract to a private entity. Entities in Sector 92 cannot qualify as small business concerns because they are not organized for profit. SBA intends to further clarify how the non-manufacturer rule applies to supply contracts.

Timetable:

Action | Date | FR Cite
NPRM | 07/00/11 |

Regulatory Flexibility Analysis Required: Yes.

Agency Contact: Dr. Khem Raj Sharma, Chief, Office of Size Standards, Small Business Administration, 409 Third Street, SW, Washington, DC 20416, Phone: 202 205-7189, Fax: 202 205-6390, E-mail: khem.sharma@sba.gov.

RIN: 3245-AG31

SMALL BUSINESS ADMINISTRATION (SBA)

Final Rule Stage

313. Lender Oversight Program

Legal Authority: 15 U.S.C. 634(5)(b)(6),(b)(7),(b)(14),(h) and note; 687(f),697(e)(c)(8), and 650

Abstract: This rule implements the Small Business Administration's (SBA) statutory authority under the Small Business Reauthorization and Manufacturing Assistance Act of 2004 (Reauthorization Act) to regulate Small Business Lending Companies (SBLCs) and non-federally regulated lenders (NFRLs). It also conforms SBA rules for the section 7(a) Business Loan Program and the Certified Development Company (CDC) Program.

In particular, this rule: (1) Defines SBLCs and NFRLs; (2) clarifies SBA's authority to regulate SBLCs and NFRLs; (3) authorizes SBA to set certain minimum capital standards for SBLCs, to issue cease and desist orders, and revoke or suspend lending authority of SBLCs and NFRLs; (4) establishes the Bureau of Premier Certified Lender Program Oversight in the Office of Credit Risk management; (5) transfers existing SBA enforcement authority over CDCs from the Office of Financial Assistance to the appropriate official in the Office of Capital Access; and (6) defines SBA's oversight and enforcement authorities relative to all SBA lenders participating in the 7(a) and CDC programs and intermediaries in the Microloan program.

Timetable:

Action | Date | FR Cite
NPRM | 10/31/07 | 72 FR 61752
NPRM Comment Period Extended | 12/20/07 | 72 FR 72264
NPRM Comment Period End | 02/29/08 |
Interim Final Rule | 12/11/08 | 73 FR 75498
Interim Final Rule Comment Period End | 03/11/09 |
Interim Final Rule Effective | 01/12/09 |
Final Action | 08/00/11 |

Regulatory Flexibility Analysis Required: Yes.

Agency Contact: Janet A. Tasker, Director, Office of Credit Risk Management, Small Business Administration, 409 Third Street, SW, Washington, DC 20416, Phone: 202 205-3049, E-mail: janet.tasker@sba.gov.

RIN: 3245-AE14

314. Small Business Size Standards: Professional, Scientific, and Technical Services

Legal Authority: 15 U.S.C. 632(a)

Abstract: The U.S. Small Business Administration (SBA) proposes to modify small business size standards for industries in the North American Industry Classification System (NAICS) Sector 54, Professional, Scientific and Technical Services. As part of its ongoing initiative to review all size standards, SBA will evaluate each industry in Sector 54 to determine whether the existing size standards should be retained or revised. This is one of a series of proposed rules that will examine industries grouped by an NAICS Sector. SBA has applied its “Size Standards Methodology,” which is available on its Web site at http://www.sba.gov/size, to this proposed rule.

Timetable:

Action | Date | FR Cite
NPRM | 03/16/11 | 76 FR 14323
NPRM Comment Period End | 05/16/11 |
Final Action | 11/00/11 |

Regulatory Flexibility Analysis Required: Yes.

Agency Contact: Dr. Khem Raj Sharma, Chief, Office of Size Standards, Small Business Administration, 409 Third Street, SW, Washington, DC 20416, Phone: 202 205-7189, Fax: 202 205-6390, E-mail: khem.sharma@sba.gov.

RIN: 3245-AG07

SMALL BUSINESS ADMINISTRATION (SBA)

Long-Term Actions

315. Small Business Development Centers (SBDC) Program Revisions

Legal Authority: 15 U.S.C. 634(b)(6); 15 U.S.C. 648

Abstract: This rule would update Small Business Development Center (SBDC) program regulations by amending among things, the (1) procedures for approving and funding of SBDCs; (2) approval procedures for travel outside the continental U.S. and U.S. territories; (3) procedures and requirements regarding findings and disputes resulting from financial exams, programmatic reviews, accreditation reviews, and other SBA oversight activities; (4) requirements for new and renewal applications for SBDC awards, including the requirements for electronic submission through the approved electronic Government submission facility; and (5) provisions regarding the collection and use of individual SBDC client data.

Timetable:

Action | Date | FR Cite
NPRM | 06/00/12 |

Regulatory Flexibility Analysis Required: Yes.

Agency Contact: Antonio Doss, Phone: 202 205-6766, E-mail: antonio.doss@sba.gov.

RIN: 3245-AE05

SMALL BUSINESS ADMINISTRATION (SBA)

Completed Actions

316. Small Business Size Regulations; (8)A Business Development/Small Disadvantaged Business Status Determination

Legal Authority: 15 U.S.C. 634(b)(6), 636(j), 637(a) and (d)

Abstract: This rule makes a number of changes to the regulations governing the 8(a) Business Development (8(a) BD) Program and several changes to SBA's size regulations. Some of the changes involve technical issues, such as changing the term “SIC code” to “NAICS code” to reflect the national conversion to the North American Industry Classification System. SBA has learned through experience that certain of its rules governing the 8(a) BD program are too restrictive and serve to unfairly preclude firms from being admitted to the program. In other cases, SBA has determined that a rule is too expansive or indefinite and has sought to restrict or clarify that rule. Changes are also being made to correct past public or agency misinterpretation. Also, new situations have arisen that were not anticipated when the current rules were drafted and the rule covers those situations. Finally, one of the changes, implements statutory changes that impact Native Hawaiian Organizations.

Completed:

Reason | Date | FR Cite
Final Rule | 02/11/11 | 76 FR 8222
Final Rule Effective | 03/14/11 |

Regulatory Flexibility Analysis Required: Yes.

Agency Contact: LeAnn Delaney, Phone: 202 205-6731, E-mail: leann.delaney@sba.gov.

RIN: 3245-AF53

317. Small Business, Small Disadvantaged Business, Hubzone, and Service-Disabled Veteran-Owned Protest and Appeal Regulations

Legal Authority: 15 U.S.C. 632; 15 U.S.C. 634

Abstract: SBA has standardized protest and appeal regulations across all small business programs and clarified the effect of a negative determination on the procurement in question. The rule clarifies that an award should not be made to an ineligible concern, and in cases where an award has been made prior to an SBA final decision finding a business to be ineligible, the contracting agency shall either terminate the contract, not exercise an option, or not award further task or delivery orders to the ineligible concern. SBA clarified how contracting officers select NAICS codes for multiple award task and delivery order contracts. The changes were prompted by recent bid protest litigation, a survey of cases handled by SBA's Government Contracting Area Offices, and recent rulings by SBA's Office of Hearings and Appeals.

Completed:

Reason | Date | FR Cite
Final Action | 02/02/11 | 76 FR 5680
Final Rule Effective | 03/04/11 |

Regulatory Flexibility Analysis Required: Yes.

Agency Contact: Khem Raj Sharma, Phone: 202 205-7189, Fax: 202 205-6390, E-mail: khem.sharma@sba.gov.

RIN: 3245-AF65

[FR Doc. 2011-15498 Filed 7-6-11; 8:45 am]

BILLING CODE 8025-01-P